DEPARTMENT OF EDUCATION

34 CFR Chapter III

[Docket ID ED-2019-OSERS-0156]

Proposed Priority and Definitions—State Personnel Development Grants

Catalog of Federal Domestic Assistance (CFDA) Number: 84.323A.

AGENCY: Office of Special Education and Rehabilitative Services, Department of Education.

ACTION: Proposed priority and definitions.

SUMMARY: The Office of Special Education and Rehabilitative Services (OSERS) proposes a funding priority and definitions under the State Personnel Development Grants (SPDG) program, which assists States in reforming and improving their systems for personnel preparation and personnel development in order to improve results for children with disabilities. We take this action to focus attention on the need to improve results for children with disabilities by empowering personnel to select professional development activities to improve their ability to serve children with disabilities. The Department may use the proposed priority and definitions for competitions in fiscal year (FY) 2020 and later years.

DATES: We must receive your comments on or before May 26, 2020.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery: If you mail or deliver your comments about the proposed priority and definitions, address them to Jennifer Coffey, U.S. Department of Education, 400 Maryland Avenue SW, Room 5161, Potomac Center Plaza, Washington, DC 20202-5076.

Privacy Note: The Department's policy is to make all comments received from members of the public available for public viewing in their entirety on the Federal eRulemaking Portal at www.regulations.gov. Therefore, commenters should be careful to include in their comments only information that they wish to make publicly available.

FOR FURTHER INFORMATION CONTACT: Jennifer Coffey, U.S. Department of Education, 400 Maryland Avenue SW, Room 5161, Potomac Center Plaza, Washington, DC 20202-5076. Telephone: (202) 245-6673. Email: Jennifer.Coffey@ed.gov.

If you use a telecommunications device for the deaf (TDD) or a text telephone (TTY), call the Federal Relay Service (FRS), toll free, at 1-800-877-8339.

SUPPLEMENTARY INFORMATION:

Invitation to Comment: We invite you to submit comments regarding the proposed priority and definitions. To ensure that your comments have maximum effect in developing the notice of final priority and definitions, we urge you to identify clearly the specific section of the proposed priority or definition that each comment addresses.

We are particularly interested in comments about whether the proposed priority would be challenging for new grantees to meet and, if so, how the proposed priority could be revised to address potential challenges for new grantees and reduce burden.

Directed Question 1: The Department seeks information on the extent to which State educational agencies (SEAs) and local educational agencies (LEAs) under Part B of IDEA, and, if appropriate, lead agencies (LAs) or local agencies under Part C of IDEA provide special education teachers and other personnel autonomy in selecting their professional development options.

Directed Question 2: The Department seeks information on State and local professional development policies and requirements for special education teachers and other personnel, such as the number of hours of professional development personnel must fulfill or the competencies personnel must acquire to obtain or maintain applicable certifications.

In responding to these questions, the Secretary specifically invites comments on how this proposed priority would change existing professional development requirements, policies, and practices and if it could increase the effectiveness of professional development for teachers and other personnel. When responding, commenters should keep in mind that the professional development provided must be consistent with the State personnel development plan (hereinafter referred to as a “State plan”) under section 653 of IDEA and the use of SPDG funds to implement authorized professional development activities under section 654 of IDEA.

We invite you to assist us in complying with the specific requirements of Executive Orders 12866, 13563, and 13771 and their overall requirement of reducing regulatory burden that might result from the proposed priority and definitions. Please let us know of any further ways we could reduce potential costs or increase potential benefits while preserving the effective and efficient administration of the program.

During and after the comment period, you may inspect all public comments about the proposed priority and definitions by accessing Regulations.gov. You may also inspect the comments in person in Room 5161, 550 12th Street SW, Potomac Center Plaza, Washington, DC, between the hours of 8:30 a.m. and 4:00 p.m., Eastern Time, Monday through Friday of each week except Federal holidays.

Assistance to Individuals With Disabilities in Reviewing the Rulemaking Record: On request, we will provide an appropriate accommodation or auxiliary aid to an individual with a disability who needs assistance to review the comments or other documents in the public rulemaking record for the proposed priority and definitions. If you want to schedule an appointment for this type of accommodation or auxiliary aid, please contact the person listed under FOR FURTHER INFORMATION CONTACT.

Purpose of Program: The purpose of this program is to assist SEAs in reforming and improving their systems for personnel preparation and professional development in early intervention, educational, and transition services in order to improve results for children with disabilities.

Program Authority: 20 U.S.C. 1451-1455.

Proposed Priority

This notice contains one proposed priority.

Choice in Professional Development

Background: The purpose of this proposed priority is to increase the learning and engagement of personnel ¹ in their professional development experiences by empowering them to select professional development activities based on their individual needs in order to improve results for children with disabilities. Funds would be awarded competitively to SEAs to develop personalized professional development pilots to carry out the State plan under section 653 of IDEA and implement professional development activities that are authorized under the use of funds provisions under section 654 of IDEA. These professional development pilots would include stipends or other mechanisms, such as competency-based personalized learning, that provide teachers and other personnel choice in their professional development.

¹ “Personnel” means special education teachers, regular education teachers, principals, administrators, related services personnel, paraprofessionals, and early intervention personnel serving infants, toddlers, preschoolers, or children with disabilities, except where a particular category of personnel, such as related services personnel, is identified. Section 651(b) of IDEA; 20 U.S.C. 1451(b).

Note: To carry out the State plan under section 653 of IDEA described in its application, the SEA also may award contracts, subgrants, or both to other public and private entities, including, if appropriate, the LA under Part C of IDEA.

SEAs, LEAs, LAs, or local agencies under Part C, if appropriate, would have flexibility in selecting the individual(s) or groups of personnel who would be provided with professional development options. For example, stipends could be targeted for personnel who teach children with disabilities in specific subjects such as math and science; personnel in schools identified for comprehensive support and improvement or targeted support and improvement under the Elementary and Secondary Education Act of 1965, as amended (ESEA); personnel preparing for leadership roles in or out of the classroom; or, if appropriate, personnel providing early intervention services. Applicants would describe how they will prioritize selecting individuals or groups of personnel serving rural children with disabilities or disadvantaged children with disabilities, such as children from low-income families and ensure there is an equitable distributions across these groups if demand for professional development exceeds what available funds can support.

Personnel could then use the stipends or other mechanisms based on their individual needs to select evidence-based professional development that is designed to improve outcomes for children with disabilities.

Although school-related factors such as curriculum, family engagement, and funding contribute to student academic performance, research suggests that the single most important school-based factor impacting students' achievement is their teacher (Hanushek, 2016; Stronge & Tucker, 2000). Accordingly, creating every opportunity for teachers and other education personnel to be fully engaged in high-quality professional development that increases their knowledge and skills and is aligned to students' academic and other learning needs holds promise in boosting student achievement.

Alignment of professional development to personnel needs is also critical. Research on adult learning (andragogy) posits that adults engage more deeply with learning opportunities when those opportunities are aligned to their interests (Trotter, 2006). Among educators, those interests can vary in the different phases of their careers. For example, novice teachers may seek to improve classroom management skills, content knowledge, and pedagogy. In contrast, more experienced teachers may want to develop the advanced skills necessary to take on new leadership roles or increase intensive intervention skills. Andragogy suggests that adult learning can be differentiated by the learner's need—that is, personalized—and indeed should be in order to maximize engagement in learning (Trotter, 2006).

Leveraging the power of personalization, and the deep engagement with learning it promotes, is critical if professional development is to have an impact on educator practice. The Learning Policy Institute (2017) identifies a set of seven pillars for effective professional development. Among them are: (1) Active learning, (2) collaboration, (3) coaching and support, (4) feedback and reflection, and (5) training of a sustained duration (Learning Policy Institute, 2017). A common thread among each of these practices is that they require personnel to invest meaningful effort and attention. No matter how well designed by the provider, the promise of these pillars to improve personnel practice is only realized when educators engage fully with the content. Adult learning theory suggests personalization is one way to make this engagement more likely (Trotter, 2006).

Giving educators the financial and other resources needed to personalize their professional development, consistent with their needs and the needs of their students, has the potential to maximize benefits for them and their students. Research indicates that having educators create professional learning plans and giving them the freedom to select the activities that will support them in achieving the goals outlined in those plans could have positive effects on student achievement and attainment (Rabbitt, et al., 2015). Thus, it may be the case that a stipend program or other mechanisms to provide personnel with choice in selecting professional development options could magnify the efficacy of other personalization efforts by giving teachers access to options that otherwise may have been inaccessible due to professional development requirements or that were cost prohibitive.

For these reasons, this proposed priority would support innovative projects that develop and test approaches to providing personnel with professional learning stipends or other mechanisms to provide personnel with choice in selecting professional development options. With the autonomy to identify instructionally relevant professional learning, teachers and other personnel can improve their knowledge and skills and better support student achievement and other desirable outcomes for children with disabilities.

We intend for this proposed priority to supplement the absolute priority 2, the SPDG statutory priority, published in the Federal Register on February 13, 2017 (82 FR 10470),² as well as other relevant statutory and regulatory priorities established by the Department. Specifically, all applicants must meet the statutory requirements in sections 651 through 655 of the IDEA, 20 U.S.C. 1451-1455. Applicants may apply for this proposed priority as well, but would not be required to do so to be eligible for an award.

² https://www.federalregister.gov/documents/2017/02/13/2017-02895/applications-for-new-awards-state-personnel-development-grants-spdg-program.

Projects must be awarded and operated in a manner consistent with nondiscrimination requirements contained in the U.S. Constitution and the Federal civil rights laws.

Proposed Priority: The purpose of this proposed priority is to fund SPDG grants to SEAs that empower teachers and other personnel to select professional development that meets their individual needs in order to improve results for children with disabilities. States will meet the priority if they describe in their application how they will develop personalized professional development projects to carry out their State plan under section 653 of IDEA and to implement professional development activities that are consistent with the use of funds provisions in section 654 of IDEA. This would be accomplished by using funds under the SPDG program for stipends or other mechanisms to provide personnel with choice in selecting professional development options that will count toward State or local professional development requirements, as appropriate, such as the number of hours personnel must fill or the competencies they must acquire to obtain or retain certification, and that are designed to meet their individual needs and thus improve results for children with disabilities.

Applicants must—

(a) Demonstrate, in the narrative section of the application under “Significance,” how the proposed project will develop personalized professional development activities using stipends or other mechanisms that provide personnel choice in professional development options designed to meet their individual needs and count toward State or local professional development requirements and thus improve results for children with disabilities;

(b) Describe how the State will select the individual(s) or groups of personnel that will be provided with professional development options, including the extent to which applicants will prioritize selecting individuals or groups of personnel serving rural children with disabilities or disadvantaged children with disabilities, such as children from low-income families. If applicable, applicants should specify how they will prioritize personnel if demand for professional development among the individuals or groups of personnel that the applicant proposes to serve exceed what available funds can support.

(c) Describe how the State will create a list of approved professional development options that meet the requirements of the SPDG program. This description should include how the applicant will engage with a range of stakeholders, including school administrators, personnel serving students with disabilities, families of students with disabilities and individuals with disabilities, and other State or local agencies serving individuals with disabilities, such as juvenile justice agencies, to determine which professional development options it will offer. Specifically, professional development options must—

(1) Use evidence-based (as defined in this notice) professional development methods that will increase implementation of evidence-based practices and result in improved outcomes for children with disabilities;

(2) Include ongoing assistance that supports the implementation of evidence-based practices with fidelity (as defined in this notice); and

(3) Use technology to more efficiently and effectively provide ongoing professional development to personnel, including to personnel in rural areas and in urban or high-need local educational agencies (LEAs) (as defined in this notice); and

(d) If applicable, describe the steps that personnel would need to take to request professional development options not already on a list of approved professional development options, the justification that personnel would need to provide to demonstrate how the selected options would improve results for children with disabilities, and how personnel would be notified if their request was approved or disapproved in writing and within 14 days.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Definitions

We propose the following definitions for use with this proposed priority and with the SPDG program. We propose these definitions to ensure that applicants have a clear understanding of how we are using these terms. We propose to use definitions the Department has adopted elsewhere and provide the source of existing definitions in parentheses.

Evidence-based means the proposed project component is supported by one or more of strong evidence, moderate evidence, promising evidence, or evidence that demonstrates a rationale. (34 CFR 77.1)

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment. (34 CFR 77.1)

Fidelity means the delivery of instruction in the way in which it was designed to be delivered. (77 FR 45944)

High-need LEA means, in accordance with section 2102(3) of the ESEA, an LEA—

(a) That serves not fewer than 10,000 children from families with incomes below the poverty line (as that term is defined in section 8101(41) of the ESEA), or for which not less than 20 percent of the children served by the LEA are from families with incomes below the poverty line; and

(b) For which there is (1) a high percentage of teachers not teaching in the academic subjects or grade levels that the teachers were trained to teach, or (2) a high percentage of teachers with emergency, provisional, or temporary certification or licensing.

Lead agency means the agency designated by the State's Governor under section 635(a)(10) of IDEA and 34 CFR 303.120 that receives funds under section 643 of IDEA to administer the State's responsibilities under part C of IDEA. (34 CFR 303.22)

Local educational agency means a public board of education or other public authority legally constituted within a State for either administrative control or direction of, or to perform a service function for, public elementary schools or secondary schools in a city, county, township, school district, or other political subdivision of a State, or for such combination of school districts or counties as are recognized in a State as an administrative agency for its public elementary schools or secondary schools. (Section 602(19) of IDEA (20 U.S.C. 1401(19)))

Project component means an activity, strategy, intervention, process, product, practice, or policy included in a project. Evidence may pertain to an individual project component or to a combination of project components (e.g., training teachers on instructional practices for English learners and follow-on coaching for these teachers). (34 CFR 77.1)

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome. (34 CFR 77.1)

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook. (34 CFR 77.1)

Relevant outcome means the student outcome(s) or other outcome(s) the key project component is designed to improve, consistent with the specific goals of the program. (34 CFR 77.1)

State educational agency means the State board of education or other agency or officer primarily responsible for the State supervision of public elementary schools and secondary schools, or, if there is no such officer or agency, an officer or agency designated by the Governor or by State law. (Section 602(32) of IDEA (20 U.S.C. 1401(32)))

Strong evidence means that there is evidence of the effectiveness of a key project component in improving a relevant outcome for a sample that overlaps with the populations and settings proposed to receive that component, based on a relevant finding from one of the following:

(i) A practice guide prepared by the WWC using version 2.1 or 3.0 of the WWC Handbook reporting a “strong evidence base” for the corresponding practice guide recommendation;

(ii) An intervention report prepared by the WWC using version 2.1 or 3.0 of the WWC Handbook reporting a “positive effect” on a relevant outcome based on a “medium to large” extent of evidence, with no reporting of a “negative effect” or “potentially negative effect” on a relevant outcome; or

(iii) A single experimental study reviewed and reported by the WWC using version 2.1 or 3.0 of the WWC Handbook, or otherwise assessed by the Department using version 3.0 of the WWC Handbook, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement. (34 CFR 77.1)

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation. (34 CFR 77.1)

References

Darling-Hammond, L., Hyler, M., and Gardner, M., with assistance from Espinoza, D. (2017). Effective teacher professional development. Learning Policy Institute.

Hanushek, E.A. (2016). What matters for student achievement. Education Next, 16(2), 18-26.

Ingersoll, R., & May, H. (2012). The magnitude, destinations, and determinants of mathematics and science teacher turnover. Educational Evaluation and Policy Analysis, 34(4), 435-464.

Rabbitt, B., Finegan, J., & Kellogg, N. (2019). Research-Based, online learning for teachers: What the research literature tells us about the design of platforms and virtual experiences for working adult learners. The Learning Accelerator.

Stronge, J.H., & Tucker, P.D. (2000). Teacher evaluation and student achievement. National Education Association.

Trotter, Y. (2006). Adult learning theories: Impacting professional development programs. Delta Kappa Gamma Bulletin, 72(2), 8-13.

Final Priority and Definitions

We will announce the final priority and definitions in a document in the Federal Register. We will determine the final priority and definitions after considering responses to this document and other information available to the Department. This document does not preclude us from proposing additional priorities, requirements, definitions, or selection criteria, subject to meeting applicable rulemaking requirements.

Note: This document does not solicit applications. In any year in which we choose to use the proposed priority and definitions, we invite applications through a notice in the Federal Register.

Executive Orders 12866, 13563, and 13771

Regulatory Impact Analysis

Under Executive Order 12866, the Office of Management and Budget (OMB) determines whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

OMB has determined that this proposed regulatory action is not a significant regulatory action subject to review by OMB under section 3(f) of Executive Order 12866.

Under Executive Order 13771, for each new rule that the Department proposes for notice and comment or otherwise promulgates that is a significant regulatory action under Executive Order 12866 and that imposes total costs greater than zero, it must identify two deregulatory actions. For FY 2020, any new incremental costs associated with a new rule must be fully offset by the elimination of existing costs through deregulatory actions. However, Executive Order 13771 does not apply to “transfer rules” that cause only income transfers between taxpayers and program beneficiaries, such as those regarding discretionary grant programs. Because the proposed priority and definitions would be utilized in connection with a discretionary grant program, Executive Order 13771 does not apply.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priority and definitions only on a reasoned determination that their benefits justify their costs. In choosing among alternative regulatory approaches, we selected those approaches that maximize net benefits. The Department believes that this regulatory action is consistent with the principles in Executive Order 13563.

We have also determined that this regulatory action does not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

In addition, we have considered the potential benefits of this regulatory action and have noted these benefits in the background section of this document.

Regulatory Flexibility Act Certification: The Secretary certifies that this proposed regulatory action would not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

Participation in the SPDG program is voluntary. In addition, the only eligible entities for this program are SEAs, which do not meet the definition of a small entity. For these reasons, the proposed priority and definitions would impose no burden on small entities.

We invite comments from small eligible entities as to whether they believe this proposed regulatory action would have a significant economic impact on them and, if so, request evidence to support that belief.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-08554 Filed 4-23-20; 8:45 am]

BILLING CODE 4000-01-P